DEPARTMENT OF JUSTICE

Notice of Lodging of Consent Decree Under the Comprehensive Environmental Response, Compensation and Liability Act

Under Section 122(i) of CERCLA, 42 U.S.C.A. 9622(i), notice is hereby given that on March 20, 2000, a proposed Consent Decree in United States v. Safe Tire Disposal Corp. and Safe Tire Disposal Corp. of Texas (“Defendants”), Civil Action No. 398CV2865-T, was lodged with the United States District Court for the Northern District of Texas, Dallas Division.

In this action the United States, on behalf of the United States Environmental Protection Agency (“EPA”), sought recovery of response costs arising from releases of a hazardous substance in connection with a tire fire that occurred on land owned by Safe Tire Disposal Corp., located in the City of Midlothian, Ellis County, Texas. The proposed Consent Decree requires the Defendants to pay $100,000 in partial reimbursement of EPA's response costs. The proposed Consent Decree resolves the Defendants' liability under Section 107(a) of CERCLA, 42 U.S.C. 9607(a).

The Department of Justice will receive for a period of thirty (30) days from the date of this publication comments relating to the Consent Decree. Comments should be addressed to the Assistant Attorney General for the Environment and Natural Resources Division, U.S. Department of Justice, P.O. Box 7611, N.W., Washington, DC 20044-7611, and should refer to United States v. Safe Tire Disposal Corp. and Safe Tire Disposal Corp. of Texas, D. J. Ref. 90-11-3-06553.

The Consent Decree may be examined at U.S. EPA Region 6, Superfund Division, 1445 Ross Avenue, Suite 1200, Dallas Texas. A copy of the Consent Decree may also be obtained by mail from the Consent Decree Library, P.O. Box 7611, U.S. Department of Justice, Washington, DC 20044-7611. In requesting a copy, please enclose a check in the amount of $5.75 payable to the Consent Decree Library.

Joel M. Gross,
Chief, Environmental Enforcement Section, Environment and Natural Resources Division.

[FR Doc. 00-8073 Filed 3-31-00; 8:45 am]

BILLING CODE 4410-15-M